FEDERAL ELECTION COMMISSION

[Notice 2016-07]

Filing Dates for the Ohio Special Democratic Primary Election in the 8th Congressional District

AGENCY: Federal Election Commission.

ACTION: Notice of filing dates for special election.

SUMMARY: Ohio has scheduled a special primary election on September 13, 2016, to fill the vacancy on the November 8, 2016, general election ballot that was created by the withdrawal of the Democratic nominee Corey Foister.

Committees required to file reports in connection with the Special Primary Election on September 13, 2016, shall file a 12-day Pre-Primary Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Ohio Special Primary Election shall file a 12-day Pre-Primary Report on September 1, 2016. (See chart below for the closing date for each report.)

Note that these reports are in addition to the campaign committee's regular quarterly filings. (See chart below for the closing date for each report).

Unauthorized Committees (PACs and Party Committees)

Political committees filing on a quarterly basis in 2016 are subject to special election reporting if they make previously undisclosed contributions or expenditures in connection with the Ohio Special Primary Election by the close of books for the applicable report(s). (See chart below for the closing date for each report.)

Committees filing monthly that make contributions or expenditures in connection with the Ohio Special Primary Election will continue to file according to the monthly reporting schedule.

Additional disclosure information in connection with the Ohio Special Primary Election may be found on the FEC Web site at http://www.fec.gov/info/report_dates.shtml.

Disclosure of Lobbyist Bundling Activity

Principal campaign committees, party committees and Leadership PACs that are otherwise required to file reports in connection with the special primary election must simultaneously file FEC Form 3L if they receive two or more bundled contributions from lobbyists/registrants or lobbyist/registrant PACs that aggregate in excess of the $17,600 during the special election reporting periods. (See chart below for closing date of each period.) 11 CFR 104.22(a)(5)(v), (b).

Calendar of Reporting Dates for Ohio Special Democratic Primary Election
Report | Close of books ¹ | Reg./cert. & overnight mailing deadline | Filing deadline
Committees Involved in the Special Primary (09/13/16) Must File
Pre-Primary | 08/24/16 | 08/29/16 | 09/01/16
October Quarterly | 09/30/16 | ² 10/15/16 | 10/15/16
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

On behalf of the Commission.
Dated: August 3, 2016.
Matthew S. Petersen,
Chairman, Federal Election Commission.

[FR Doc. 2016-18839 Filed 8-8-16; 8:45 am]

BILLING CODE 6715-01-P